DEPARTMENT OF HOMELAND SECURITY

Federal Emergency Management Agency

[Docket ID FEMA-2017-0002; Internal Agency Docket No. FEMA-B-1754]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 24, 2018.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1754, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: October 13, 2017.
Roy E. Wright,
Deputy Associate Administrator for Insurance and Mitigation, Department of Homeland Security, Federal Emergency Management Agency.

I. Non-watershed-based studies:

Community | Community map repository address
Will County, Illinois and Incorporated Areas
Maps Available for Inspection Online at: http://www.fema.gov/preliminaryfloodhazarddata
Project: 13-05-4873S Preliminary Date: February 1, 2017
City of Aurora | Engineering Department, City Hall, 44 East Downer Place, Aurora, IL 60507.
City of Braidwood | City Hall, 141 West Main Street, Braidwood, IL 60408.
City of Crest Hill | City Hall, 1610 Plainfield Road, Crest Hill, 60403.
City of Joliet | City Hall, 150 West Jefferson Street, Joliet, IL 60432.
City of Lockport | Public Works and Engineering, 17112 South Prime Boulevard, Lockport, IL 60441.
City of Naperville | City Hall, 400 South Eagle Street, Naperville, IL 60540.
City of Wilmington | City Hall, 1165 South Water Street, Wilmington, IL 60481.
Unincorporated Areas of Will County | Land Use Department, 58 East Clinton Street, Suite 100, Joliet, IL 60432.
Village of Beecher | Village Hall, 625 Dixie Highway, Beecher, IL 60401.
Village of Bolingbrook | Village Hall, 375 West Briarcliff Road, Bolingbrook, IL 60440.
Village of Channahon | Village Hall, 24555 South Navajo Drive, Channahon, IL 60410.
Village of Coal City | Village Hall, 515 South Broadway Street, Coal City, IL 60416.
Village of Crete | Village Hall, 524 West Exchange Street, Crete, IL 60417.
Village of Diamond | Village Hall, 1750 East Division Street, Diamond, IL 60416.
Village of Elwood | Village Hall, 401 East Mississippi Avenue, Elwood, IL 60421.
Village of Frankfort | Village Hall, 432 West Nebraska Street, Frankfort, IL 60423.
Village of Homer Glen | Village Hall, 14240 West 151st Street, Homer Glen, IL 60491.
Village of Lemont | Village Hall, 418 Main Street, Lemont, IL 60439.
Village of Manhattan | Village Hall, 260 Market Place, Manhattan, IL 60442.
Village of Minooka | Village Hall, 121 East McEvilly Road, Minooka, IL 60447.
Village of Mokena | Village Hall, 11004 Carpenter Street, Mokena, IL 60448.
Village of Monee | Village Hall, 5130 West Court Street, Monee, IL 60449.
Village of New Lenox | Village Hall, 1 Veterans Parkway, New Lenox, IL 60451.
Village of Orland Park | Village Hall, 14700 South Ravinia Avenue, Orland Park, IL 60462.
Village of Park Forest | Village Hall, 350 Victory Drive, Park Forest, IL 60466.
Village of Peotone | Village Hall, 208 East Main Street, Peotone, IL 60468.
Village of Plainfield | Village Hall, 24401 West Lockport Street, Plainfield, IL 60544.
Village of Rockdale | Village Hall, 79 Moen Avenue, Rockdale, IL 60436.
Village of Romeoville | Village Hall, 1050 West Romeo Road, Romeoville, IL 60446.
Village of Shorewood | Village Hall, One Towne Center Boulevard, Shorewood, IL 60404.
Village of Steger | Village Hall, 3320 Lewis Avenue, Steger, IL 60475.
Village of Tinley Park | Village Hall, 16250 South Oak Park Avenue, Tinley Park, IL 60477.
Village of University Park | Village Hall, 698 Burnham Drive, University Park, IL 60484.
Village of Woodridge | Village Hall, 5 Plaza Drive, Woodridge, IL 60517.

[FR Doc. 2017-23253 Filed 10-25-17; 8:45 am]

BILLING CODE 9110-12-P